DEPARTMENT OF COMMERCE

International Trade Administration

[A-580-809]

Circular Welded Non-Alloy Steel Pipe From the Republic of Korea: Partial Rescission of Antidumping Duty Administrative Review

AGENCY: Import Administration, International Trade Administration, Department of Commerce.

DATES: Effective Date: August 23, 2011.

FOR FURTHER INFORMATION CONTACT: Alexander Montoro or Jennifer Meek, at (202) 482-0238 or (202) 482-2778, respectively; AD/CVD Operations, Office 1, Import Administration, International Trade Administration, U.S. Department of Commerce, 14th Street and Constitution Avenue, NW., Washington, DC 20230.

SUPPLEMENTARY INFORMATION:

Background

On November 1, 2010, the Department published a notice of opportunity to request an administrative review of the antidumping duty order on certain circular welded non-alloy steel pipe (“circular welded pipe”) from the Republic of Korea (“Korea”) for the period November 1, 2009, through October 31, 2010. See Antidumping or Countervailing Duty Order, Finding, or Suspended Investigation; Opportunity To Request Administrative Review, 75 FR 67079 (November 1, 2010).

In accordance with 19 CFR 351.213(b), on November 30, 2010, Wheatland Tube Company (“Wheatland”) and United States Steel Corporation (“U.S. Steel”), manufacturers of the domestic like product, timely requested an administrative review. Wheatland requested that the Department of Commerce (the “Department”) conduct an administrative review of the following producers and/or exporters of the subject merchandise: SeAH Steel Corporation (“SeAH”); Hyundai HYSCO (“HYSCO”); Husteel Co., Ltd. (“Husteel”); Nexteel Co., Ltd. (“Nexteel”); Kumkang Industrial Co., Ltd. (“Kumkang”); and Dongbu Steel Co., Ltd (“Dongbu”). U.S. Steel requested the Department conduct an administrative review of the following producers of subject merchandise: SeAH; HYSCO; Husteel; Nexteel; Kumkang; and A-JU Besteel Co., Ltd. (“Besteel”). On the same day, SeAH and HYSCO both separately requested the Department conduct an administrative review of their respective companies.

On December 28, 2010, the Department initiated an administrative review covering the period November 1, 2009, through October 31, 2010. See Initiation of Antidumping and Countervailing Duty Administrative Reviews and Request for Revocation in Part, 75 FR 81565 (December 28, 2010).

Wheatland withdrew its request for a review of Husteel, Nexteel, Kumkang, and Dongbu on July 13, 2011. U.S. Steel also withdrew its request for a review of Husteel, Nexteel, Kumkang, and Besteel on July 13, 2011. Wheatland and U.S. Steel are the only parties to have requested reviews of Husteel, Nexteel, and Kumkang; Wheatland is the only party to have requested a review of Dongbu, and U.S. Steel is the only party to have requested a review of Besteel.

Rescission of Review

Pursuant to 19 CFR 351.213(d)(l), the Department will rescind an administrative review, in whole or in part, if the party that requested a review withdraws the request within 90 days of the date of publication of the notice of initiation of the requested review. The Department may extend this deadline if it determines that it is reasonable to do so. Although Wheatland and U.S. Steel withdrew their respective requests for Husteel, Nexteel, Kumkang, Dongbu, and Besteel after the 90-day period, the Department has not, to date, dedicated extensive time and resources to this review, only having recently issued supplemental questionnaires to SeAH and HYSCO. Therefore, in response to the requests by Wheatland and U.S. Steel, the Department hereby rescinds the administrative review for the period November 1, 2009, through October 31, 2010, for Husteel, Nexteel, Kumkang, Dongbu, and Besteel.

Assessment

The Department will instruct U.S. Customs and Border Protection (“CBP”) to assess antidumping duties on all appropriate entries. For the companies for which this review is rescinded, the antidumping duties shall be assessed at rates equal to the cash deposit of estimated antidumping duties required at the time of entry, or withdrawal from warehouse, for consumption, in accordance with 19 CFR 351.212(c)(1)(i). The Department intends to issue appropriate assessment instructions to CBP 15 days after the date of publication of this notice of partial rescission of administrative review.

Notification to Importers

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as a final reminder to parties subject to administrative protective order (“APO”) of their responsibility concerning the disposition of proprietary information disclosed under APO in accordance with 19 CFR 351.305(a)(3). Timely written notification of the return/destruction of APO materials or conversion to judicial protective order is hereby requested. Failure to comply with the regulations and terms of an APO is a sanctionable violation.

This notice is issued and published in accordance with 19 CFR 351.213(d)(4).

Dated: August 16, 2011.
Barbara E. Tillman,
Acting Deputy Assistant Secretary for Antidumping and Countervailing Duty Operations.

[FR Doc. 2011-21393 Filed 8-22-11; 8:45 am]

BILLING CODE 3510-DS-P